DEPARTMENT OF ENERGY

Federal Energy Regulatory Commission

[Docket No. CP01-36-000]

Zia Natural Gas Company, An Operating Division of Natural Gas Processing Company, Complainant, v. Raton Gas Transmission Company, Respondent; Notice of Complaint

November 28, 2000.

Take notice that on November 22, 2000, pursuant to Rule 206 of the Commission's Rules of Practice and Procedure (18 CFR 385.206), Zia Natural Gas Company, an Operating Division of Natural Gas Processing Company (Zia), filed a Section 5 complaint against Raton Gas Transmission Company (RGT), requesting the Commission to find that certain actions taken by RGT, as well as certain aspects of RGT's tariff, violate the Natural Gas Act. To redress these violations, Zia requests that the Commission direct RGT to convert its current Part 157 certificate to a Part 284 blanket certificate, and to implement other appropriate revisions to the RGT tariff.

Specifically, Zia asserts that RGT has commenced providing service that is not authorized pursuant to RGT's case-specific, Section 7(c) certificate and that threatens to degrade the certificated service received from RGT by Zia. In addition, Zia maintains that changing competitive circumstances have rendered RGT's tariff unjust and unreasonable in a number of respects. Zia requests that the Commission order RGT to (1) convert RGT's current Part 157 transportation service to Part 284, open access transportation service, (2) afford Zia its rights as a converting Part 157 shipper, including the right to acquire upstream transportation and storage capacity currently held by RGT, (3) modify RGT's tariff rate structure to remove the automatic passthrough of costs associated with upstream capacity held by RGT on the Colorado Interstate Gas Company Docket No. CP01-36-000 (CIG) system, and (4) modify RGT's tariff, which currently lists no receipt points,to explicitly designate the Trinidad, Colorado interconnection between RGT and CIG as a receipt point on the RGT system.

Any person desiring to be heard or to protest this filing should file a motion to intervene or protest with the Federal Energy Regulatory Commission, 888 First Street, NE, Washington, DC 20426, in accordance with Rules 211 and 214 of the Commission's Rules of Practice and Procedure (18 CFR 385.211 and 385.214). All such motions or protests must be filed on or before December 8, 2000. Protests will be considered by the Commission in determining the appropriate action to be taken, but will not serve to make protestants parties to the proceeding. Any person wishing to become a party must file a motion to intervene. Copies of this filing are on file with the Commission and are available for public inspection in the Public Reference room. This filing may also be viewed on the Internet at http://www.ferc.fed.us/online/rims.htm (call 202-208-2222) for assistance. Answers to the complaint shall also be due on or before December 8, 2000.

David P. Boergers,
Secretary.

[FR Doc. 00-30731 Filed 12-1-00; 8:45 am]

BILLING CODE 6717-01-M